NATIONAL AERONAUTICS AND SPACE ADMINISTRATION

[Notice: 24-074]

NASA STEM Engagement Committee; Meeting

AGENCY: National Aeronautics and Space Administration.

ACTION: Notice of meeting cancellation.

SUMMARY: In accordance with the Federal Advisory Committee Act, the National Aeronautics and Space Administration (NASA) announces that the planned meeting on November 15, 2024, of the STEM Engagement Committee is cancelled.

SUPPLEMENTARY INFORMATION: This meeting was announced in the Federal Register on October 23, 2024, at 89 FR 84634. The cancellation of this meeting is due to NASA administrative priorities. NASA will announce the new dates for this meeting in a future Federal Register notice.

Jamie M. Krauk,
Advisory Committee Management Officer, National Aeronautics and Space Administration.

[FR Doc. 2024-26517 Filed 11-13-24; 8:45 am]

BILLING CODE 7510-13-P